OFFICE OF SCIENCE AND TECHNOLOGY POLICY

Request for Information; National Strategy for a Sustainable Ocean Economy

AGENCY: Office of Science and Technology Policy (OSTP).

ACTION: Notice of request for information (RFI).

SUMMARY: The Office of Science and Technology Policy (OSTP) and the Council on Environmental Quality (CEQ), on behalf of the interagency Ocean Policy Committee (OPC), request input from all interested parties to inform the development of a National Strategy for a Sustainable Ocean Economy (National Strategy). The National Strategy will describe the vision, goals, and high-level actions for a robust, equitable, secure, sustainable ocean economy enabled by healthy, resilient ocean ecosystems. It will build on current Federal, Tribal, Territorial, State, and regional sustainable ocean management practices and identify needs and opportunities to enhance these efforts with new and emerging science, technology, knowledge, and policy. Through this request for information (RFI), the Ocean Policy Committee seeks public input on what the goals and outcomes of the National Strategy should be, and how the Federal Government can best advance sustainable management of ocean, coastal, and Great Lakes resources and ecosystems of the United States.

DATES: Responses are due by 11:59 p.m. Eastern Time on August 28, 2023. Submissions received after the deadline may not be taken into consideration.

ADDRESSES: Comments must be submitted via the Federal eRulemaking Portal at regulations.gov. However, if you require an accommodation or cannot otherwise submit your comments via regulations.gov, please contact the program contact person listed under FOR FURTHER INFORMATION CONTACT. OSTP will not accept comments by fax or by email, or comments submitted after the comment period closes. To ensure that OSTP does not receive duplicate copies, please submit your comments only once. Additionally, please include the Docket ID at the top of your comments.

Federal eRulemaking Portal: Go to www.regulations.gov to submit your comments electronically. Information on how to use Regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this RFI.

Instructions: Response to this RFI is voluntary. Each individual or organization is requested to submit only one response. Commenters can respond to one or many questions. Submissions are suggested to not exceed the equivalent of five (5) pages in 12 point or larger font. Submissions should clearly indicate which questions are being addressed. Responses should include the name of the person(s) or organization(s) filing the response. Responses containing references, studies, research, and other empirical data that are not widely published should include copies of or electronic links to the referenced materials. Responses containing profanity, vulgarity, threats, or other inappropriate language or content will not be considered.

Please note that the U.S. Government will not pay for response preparation, or for the use of any information contained in the response. A response to this RFI will not be viewed as a binding commitment to develop or pursue the project or ideas discussed.

FOR FURTHER INFORMATION CONTACT: Deerin Babb-Brott, OSTP Asst. Director for Ocean Policy, (202) 456-3267.

SUPPLEMENTARY INFORMATION:

Background: The Nation's ocean, coasts, and Great Lakes support strong local economies and provide good-paying jobs, healthy food, carbon storage, energy, recreation, culture and heritage, transportation, trade, mobility for our armed forces, natural protection from storm surge and floods, and numerous other benefits. But many of these benefits are not inexhaustible, and the ocean is vulnerable to the impacts of human activity. The myriad impacts of climate change, habitat and biodiversity loss, and ocean pollution, for example, continue to degrade the health, productivity, and resilience of ocean ecosystems and make clear the integral connection between a healthy ocean, coasts, and Great Lakes and the health, prosperity, security, and well-being of all Americans.

To address these continuing challenges, the Administration is committed to advancing the science, knowledge, tools, and activities that support sustainable policies, management, and practices as solutions. Because the challenges are numerous and their scale is great—for example, the country's ocean, coastal, and Great Lakes areas cover as much area as the terrestrial United States—solving them will require a whole-of-country effort, with critical roles for Tribal Nations, local, State, and Territorial governments, the private sector, academia, non-governmental organizations, a wide range of stakeholders, and the public. Actions to address these challenges are being developed and implemented across the country—at all scales, by governments, organizations, businesses, academia, and people of all kinds who are developing new science and tools, recognizing the critical importance of Indigenous Knowledge, building new technologies, and employing policies, management, and practices that prioritize sustainable outcomes and reflect the resilience, interconnectedness, value, and productivity of natural systems. Ocean policies, management, and practices focused on achieving healthy communities, ecosystems, and economies are needed to provide abundant co-benefits, including good-paying jobs, thriving communities, and healthy ocean ecosystems that support future discovery and innovation. These solutions can also provide an opportunity to advance more equitable access to the benefits provided by the ocean to people, and to create and sustain a diverse workforce.

To engage the Nation in developing a vision, goals, and high-level actions for sustainable management of the ocean, coasts, and Great Lakes, the Ocean Policy Committee, a Congressionally mandated, Cabinet-level interagency committee charged with coordinating Federal ocean policy (https://www.noaa.gov/interagency-ocean-policy), will develop a National Strategy for a Sustainable Ocean Economy (National Strategy) in consultation with federally recognized Tribes and input from governments, civil society, the private sector, and the public. The National Strategy will: (1) describe a vision and goals for sustainable management of the U.S. ocean, coasts, and Great Lakes; (2) characterize and assess needs and opportunities to achieve the vision and goals; (3) identify existing and new high-level actions by Federal, Tribal, State, Territorial, regional, and local governments that can advance sustainable management; and (4) describe how those actions will be implemented to engage and build on the work of and partnerships with civil society, the private sector, and the public.

Examples of subject matter that may be addressed by the National Strategy include, but are not necessarily limited to: ocean food and human health; ocean energy and resources; ocean-based tourism; ocean transportation; new ocean industries; climate change; marine and coastal ecosystems; ocean pollution; equity and environmental justice; ocean literacy and skills; economic valuation of coastal and ocean natural capital; ocean science and technology; ocean finance; Indigenous Knowledge, ancestral and historical areas of importance, and national security.

At the Federal level, the National Strategy will take into account current actions related to the sustainability of the nation's ocean, coasts, and Great Lakes, including, but not necessarily limited to: the Ocean Climate Action Plan (https://www.whitehouse.gov/wp-content/uploads/2023/03/Ocean-Climate-Action-Plan_Final.pdf), the National Nature Assessment (https://www.globalchange.gov/nna), and the National Strategy to Develop Statistics for Environmental-Economic Decisions (https://www.whitehouse.gov/ostp/news-updates/2023/01/19/fact-sheet-biden-harris-administration-releases-national-strategy-to-put-nature-on-the-nations-balance-sheet/).The Ocean Policy Committee is coordinating the development of the National Strategy in conjunction with the United States' participation in the “High Level Panel for a Sustainable Ocean Economy” (Ocean Panel; https://oceanpanel.org/), committing with 16 other nations to develop sustainable ocean plans for their marine areas under national jurisdiction. This initiative aims to advance the prosperity, health, and security of participating nations through the sustainable management of their marine areas, and to provide a range of examples that can be considered as potential models by other nations. The U.S. National Strategy will serve as a sustainable ocean plan for the purposes of the Ocean Panel initiative.

Questions To Inform Development of the Strategy

Respondents may provide information for one or as many topics below as they choose. Submissions should clearly indicate which questions are being addressed. An interagency work group under the Ocean Policy Committee and co-led by the Department of the Interior and the Department of the Navy, in partnership with the CEQ and OSTP, and other Federal agencies and entities, will develop the National Strategy with input from, Tribal Nations, local, State, and Territorial governments, the private sector, academia, non-governmental organizations, a wide range of stakeholders, and the public. The workgroup is seeking input from the public on high-level goals and how to achieve them in the following areas:

• Sustainable Ocean Economy. What should the national vision and high-level goals be for a sustainable ocean economy? Are there successful regional or local efforts that could be applied nation-wide? What elements or activities do you consider critical to a sustainable ocean economy? Are there other topics beyond those listed above (e.g., ocean food; ocean energy and resources; ocean-based tourism; ocean transportation; new ocean industries; climate change; marine and coastal ecosystems; ocean pollution; equity and environmental justice; ocean literacy and skills; economic valuation of the ocean's natural capital; ocean science, technology; ocean finance; Indigenous Knowledge and ancestral and historical areas of importance; and national security) that should be addressed?

• Ocean, Coasts, and Great Lakes Priorities. What are your priorities for sustainable management of the ocean, coasts, and Great Lakes at a local, state, Tribal, territorial, regional, and/or national scale? What key challenges do you face in achieving them? Are your priorities for ocean, coastal, and Great Lakes management reflected in existing workplans, strategy documents, or other materials? What practices/tactics are you employing or would you need to employ to meet those priorities?

• An Informed and Responsive National Strategy. Are there gaps in our knowledge of the ocean, coasts, and Great Lakes that need to be addressed to support sustainable ocean management? Are there opportunities to improve how we manage the use of marine ecosystems to maximize their benefits while minimizing human impacts on them? For example, and as relevant only to the U.S. Exclusive Economic Zone, how can the United States advance its commitment to a precautionary approach to seabed mining and other emerging ocean industries? What co-management and co-stewardship practices are needed to meet ocean, coasts, and Great Lakes sustainability?

• Additional Considerations. Is there anything else you would like to be considered in the development of the National Strategy?

Please note that this RFI is designed to complement existing Federal activities in this space. Previous relevant comments submitted to the RFIs for the Ocean Climate Action Plan (https://www.federalregister.gov/documents/2022/10/04/2022-21480/ocean-climate-action-plan) and the National Nature Assessment (https://www.federalregister.gov/documents/2022/10/31/2022-23593/framing-the-national-nature-assessment) will also be considered to inform the development of the National Strategy.

Dated: June 26, 2023.
Stacy Murphy,
Deputy Chief Operations Officer/Security Officer.

[FR Doc. 2023-13839 Filed 6-28-23; 8:45 am]

BILLING CODE 3270-F1-P